SECURITIES AND EXCHANGE COMMISSION

[Release No. 34-77047; File Nos. SR-NYSE-2015-31 and SR-NYSEMKT-2015-56]

Self-Regulatory Organizations; New York Stock Exchange LLC; NYSE MKT LLC; Notice of Withdrawal of Proposed Rule Changes Amending the NYSE Trades Market Data and NYSE MKT Trades Market Data Product Offerings

February 3, 2016.

On July 16, 2015, New York Stock Exchange LLC (“NYSE”) and, on July 24, 2015, NYSE MKT LLC (“NYSE MKT”) (together with NYSE, the “Exchanges”) each filed with the Securities and Exchange Commission (“Commission”) pursuant to Section 19(b)(1) of the Securities Exchange Act of 1934 (“Act”) ¹ and Rule 19b-4 thereunder,² proposed rule changes to amend, respectively, the NYSE Trades market data and NYSE MKT Trades market data product offerings. The proposed rule changes were published for comment in the Federal Register on August 5, 2015.³ Six comments on the proposals were received.⁴ On September 17, 2015, the Commission issued an order instituting proceedings to determine whether to disapprove the proposed rule changes.⁵ On November 16, 2015, the Exchanges withdrew the proposals (SR-NYSE-2015-31 and SR-NYSEMKT-2015-56).

¹ 15 U.S.C. 78s(b)(1).

² 17 CFR 240.19b-4

³ See Securities Exchange Act Release Nos. 75556 (July 30, 2015), 80 FR 46628 (SR-NYSE-2015-31) and 75559 (July 30, 2015), 80 FR 46642 (SR-NYSEMKT-2015-56).

⁴ Letter from Eric S. Hunsader, Nanex, LLC, dated August 14, 2015; Letter from John Ramsay, Chief Market Policy Officer, IEX Group, Inc., to Brent J. Fields, Secretary, Commission, dated August 20, 2015; Letter from Lorenzo Ferlazzo, Acquaequity to the Commission, dated October 1, 2015; Elliot Grossman, Managing Director, Dinosaur Securities, LLC, to Brent J. Fields, Secretary, Commission, dated October 13, 2015; Melissa MacGregor, Managing Director and Associate General Counsel, SIFMA, to Brent J. Fields, Secretary, Commission, dated October 14, 2015; Elizabeth K. King, General Counsel and Corporate Secretary, NYSE, to Brent J. Fields, Secretary, Commission, dated November 12, 2015.

⁵ See Securities Exchange Act Release No. 75937, 80 FR 57408 (Sept. 23, 2015).

⁶ 17 CFR 200.30-3(a)(12).

For the Commission, by the Division of Trading and Markets, pursuant to delegated authority.⁶
Robert W. Errett,
Deputy Secretary.

[FR Doc. 2016-02441 Filed 2-8-16; 8:45 am]

BILLING CODE 8011-01-P